COMMISSION ON CIVIL RIGHTS

Agenda and Notice of Public Meeting of the Kentucky Advisory Committee

Notice is hereby given, pursuant to the provisions of the rules and regulations of the U.S. Commission on Civil Rights, that a meeting of the Kentucky Advisory Committee to the Commission will convene at 10 a.m. and adjourn at 11:30 a.m. on September 2, 2005, at Gardiner Hall, 2nd Floor, School of Arts and Sciences, University of Louisville, Louisville, KY 40252. The purpose of the meeting is to discuss the Committee's ongoing project report, The Achievement Gap between African American Students and White Students in Large Urban Areas, and discuss the design of the Committee's second project, The Unitary Status of Public School Districts in Kentucky.

Persons desiring additional information, or planning a presentation to the Committee, should contact Ivy Davis, Acting Chief of the Regional Programs Coordination Unit, (202) 376-7700 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, August 11, 2005.
Barbara Delaviez,
Acting Director, Regional Programs Coordination Unit.

[FR Doc. 05-16546 Filed 8-19-05; 8:45 am]

BILLING CODE 6335-01-P